DEPARTMENT OF ENERGY

Federal Energy Regulatory Commission

Combined Notice of Filings

October 5, 2009.

Take notice that the Commission has received the following Natural Gas Pipeline Rate and Refund Report filings:

Docket Numbers: RP10-17-000.

Applicants: Millennium Pipeline Company, L.L.C.

Description: Millennium Pipeline Company, LLC submits Second Revised Sheet 1 et al. of its FERC Gas Tariff, Original Volume 1, to be effective 11/1/09.

Filed Date: 10/01/2009.

Accession Number: 20091002-0145.

Comment Date: 5 p.m. Eastern Time on Tuesday, October 13, 2009.

Docket Numbers: RP10-18-000.

Applicants: Hardy Storage Company, LLC.

Description: Hardy Storage Company, LLC submits Fourth Revised Sheet 10 in its FERC Gas Tariff, Original Volume 1, to be effective 11/1/09.

Filed Date: 10/02/2009.

Accession Number: 20091002-0143.

Comment Date: 5 p.m. Eastern Time on Wednesday, October 14, 2009.

Docket Numbers: RP10-19-000.

Applicants: Columbia Gas Transmission, LLC.

Description: Columbia Gas Transmission, LLC submits Eighth Revised Sheet 28 et al. to its FERC Gas Tariff, Third Revised Volume 1, to be effective 11/1/09.

Filed Date: 10/01/2009.

Accession Number: 20091002-0142.

Comment Date: 5 p.m. Eastern Time on Tuesday, October 13, 2009.

Docket Numbers: RP10-20-000.

Applicants: Maritimes & Northeast Pipeline, L.L.C.

Description: Maritimes & Northeast Pipeline LLC submits First Revised Twelfth Sheet 11 to FERC Gas Tariff, First Revised Volume 1, to be effective 11/1/09.

Filed Date: 10/01/2009.

Accession Number: 20091002-0144.

Comment Date: 5 p.m. Eastern Time on Tuesday, October 13, 2009.

Docket Numbers: RP10-21-000.

Applicants: Florida Gas Transmission Company, LLC.

Description: Florida Gas Transmission Company, LLC submits revised tariff sheets to its FERC Gas Tariff, Fourth Revised Volume No. 1, to be effective 11/1/09.

Filed Date: 10/01/2009.

Accession Number: 20091002-0161.

Comment Date: 5 p.m. Eastern Time on Tuesday, October 13, 2009.

Docket Numbers: RP10-22-000.

Applicants: El Paso Natural Gas Company.

Description: El Paso Natural Gas Company submits Eleventh Revised Sheet No. 210 to FERC Gas Tariff, Second Revised Volume No. 1A, to be effective 11/1/09.

Filed Date: 10/01/2009.

Accession Number: 20091002-0177.

Comment Date: 5 p.m. Eastern Time on Tuesday, October 13, 2009.

Docket Numbers: RP10-23-000.

Applicants: Dominion Transmission, Inc.

Description: Dominion Transmission, Inc. submits Third Revised Sheet No. 1301 for FERC Gas Tariff, Third Revised Volume No. 1, to be effective 11/1/09.

Filed Date: 10/02/2009.

Accession Number: 20091002-0175.

Comment Date: 5 p.m. Eastern Time on Wednesday, October 14, 2009.

Docket Numbers: RP10-24-000.

Applicants: Transwestern Pipeline Company, LLC.

Description: Transwestern Pipeline Company, LLC submits Second Revised Sheet 38 et al. of its FERC Gas Tariff, Third Revised Volume 1, to be effective 11/2/09.

Filed Date: 10/02/2009.

Accession Number: 20091002-0174.

Comment Date: 5 p.m. Eastern Time on Wednesday, October 14, 2009.

Docket Numbers: RP10-25-000.

Applicants: Dominion Transmission, Inc.

Description: Dominion Transmission, Inc. submits Tenth Revised Sheet No. 36 et al. to FERC Gas Tariff, Third Revised Volume No. 1, to be effective 11/1/09.

Filed Date: 10/02/2009.

Accession Number: 20091002-0173.

Comment Date: 5 p.m. Eastern Time on Wednesday, October 14, 2009.

Docket Numbers: RP10-26-000.

Applicants: Dominion Transmission, Inc.

Description: Dominion Transmission, Inc. submits Sixth Revised Sheet No. 12 et al. to FERC Gas Tariff, Second Revised Volume No. 1A, to be effective 11/1/09.

Filed Date: 10/02/2009.

Accession Number: 20091002-0176.

Comment Date: 5 p.m. Eastern Time on Wednesday, October 14, 2009.

Docket Numbers: RP10-27-000.

Applicants: Transcontinental Gas Pipe Line Company.

Description: Transcontinental Gas Pipe Line Company, LLC submits Fifth Revised Sheet 21 et al. to its FERC Gas Tariff, Fourth Revised Volume No. 1, to be effective 10/1/09.

Filed Date: 10/02/2009.

Accession Number: 20091002-0210.

Comment Date: 5 p.m. Eastern Time on Wednesday, October 14, 2009.

Docket Numbers: CP09-470-000.

Applicants: Corning Natural Gas Corporation.

Description: Corning Natural Gas Corporation submits application for a blanket certificate of public convenience and necessity.

Filed Date: 09/25/2009.

Accession Number: 20090930-0068.

Comment Date: 5 p.m. Eastern Time on Tuesday, October 13, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-24583 Filed 10-13-09; 8:45 am]

BILLING CODE 6717-01-P